DEPARTMENT OF COMMERCE

Bureau of Industry and Security

Action Affecting Export Privileges; Ali Amirnazmi; Order Denying Export Privileges

In the Matter of: Ali Amirnazmi, Register #63302-066, FCI Allenwood Low, Federal Correctional Institution, P.O. Box 1000, White Deer, PA 17887 and 547 Green Hill Lane, Berwyn, PA 19312.

On January 11, 2010, in the U.S. District Court for the Eastern District of Pennsylvania, Ali Amirnazmi (“Amirnazmi”) was found guilty on three counts of violating the International Emergency Economic Powers Act (50 U.S.C. 1701 et seq. (2000)) (“IEEPA”); one count of conspiracy to violate the IEEPA (18 U.S.C. 371 (2000)); three counts of making false statements to Federal officials (18 U.S.C. 1001 (2000)), and three counts of bank fraud (18 U.S.C. 1344 (2000)). Amirnazmi, a citizen of both the United States and Iran, engaged in financial and business transactions with companies in Iran between November 1996 and June 2008 without obtaining the proper licenses from the U.S. Department of Treasury's Office of Foreign Assets Control. Amirnazmi was sentenced to a prison term of 48 months and ordered to pay restitution in the amount of $17,277.37. He will also serve five years of supervised release and forfeit $81,277.37.

Section 766.25 of the Export Administration Regulations (“EAR” or “Regulations”) ¹ provides, in pertinent part, that “[t]he Director of the Office of Exporter Services, in consultation with the Director of the Office of Export Enforcement, may deny the export privileges of any person who has been convicted of a violation of the [Export Administration Act (“EAA”)], the EAR, or any order, license or authorization issued thereunder; any regulation, license, or order issued under the International Emergency Economic Powers Act (50 U.S.C. 1701-1706); 18 U.S.C. 793, 794 or 798; section 4(b) of the Internal Security Act of 1950 (50 U.S.C. 783(b)), or section 38 of the Arms Export Control Act (22 U.S.C. 2778).” 15 CFR 766.25(a); see also Section 11(h) of the EAA, 50 U.S.C. app. section 2410(h). The denial of export privileges under this provision may be for a period of up to 10 years from the date of the conviction. 15 CFR 766.25(d); see also 50 U.S.C. app. section 2410(h). In addition, Section 750.8 of the Regulations states that the Bureau of Industry and Security's Office of Exporter Services may revoke any Bureau of Industry and Security (“BIS”) licenses previously issued in which the person had an interest in at the time of his conviction.

¹ The Regulations are currently codified in the Code of Federal Regulations at 15 CFR Parts 730-774 (2010). The Regulations issued pursuant to the Export Administration Act (50 U.S.C. app. sections 2401-2420 (2000)) (“EAA”). Since August 21, 2001, the EAA has been in lapse and the President, through Executive Order 13222 of August 17, 2001 (3 CFR, 2001 Comp. 783 (2002)), which has been extended by successive Presidential Notices, the most recent being that of August 12, 2010 (75 FR 50,681, August 16, 2010), has continued the Regulations in effect under the International Emergency Economic Powers Act (50 U.S.C. 1701 et seq. (2000)).

I have received notice of Amirnazmi's conviction for violating IEEPA, and have provided notice and an opportunity for Amirnazmi to make a written submission to BIS, as provided in Section 766.25 of the Regulations. I have not received a submission from Amirnazmi. Based upon my review and consultations with BIS's Office of Export Enforcement, including its Director, and the facts available to BIS, I have decided to deny Amirnazmi's export privileges under the Regulations for a period of ten years from the date of Amirnazmi's conviction. I have also decided to revoke all licenses issued pursuant to the Act or Regulations in which Amirnazmi had an interest at the time of his conviction.

Accordingly, It is hereby ordered

I. Until January 11, 2020, Ali Amirnazmi, with the last known addresses at: Register #63302-066, FCI Allenwood Low, Federal Correctional Institution, P.O. Box 1000, White Deer, PA 17887, and 547 Green Hill Lane, Berwyn, PA 19312, and when acting for or on behalf of Amirnazmi, his representatives, assigns, agents, or employees (collectively referred to hereinafter as the “Denied Person”), may not, directly or indirectly, participate in any way in any transaction involving any commodity, software or technology (hereinafter collectively referred to as “item”) exported or to be exported from the United States that is subject to the Regulations, including, but not limited to:

A. Applying for, obtaining, or using any license, License Exception, or export control document;

B. Carrying on negotiations concerning, or ordering, buying, receiving, using, selling, delivering, storing, disposing of, forwarding, transporting, financing, or otherwise servicing in any way, any transaction involving any item exported or to be exported from the United States that is subject to the Regulations, or in any other activity subject to the Regulations; or

C. Benefitting in any way from any transaction involving any item exported or to be exported from the United States that is subject to the Regulations, or in any other activity subject to the Regulations.

II. No person may, directly or indirectly, do any of the following:

A. Export or reexport to or on behalf of the Denied Person any item subject to the Regulations;

B. Take any action that facilitates the acquisition or attempted acquisition by the Denied Person of the ownership, possession, or control of any item subject to the Regulations that has been or will be exported from the United States, including financing or other support activities related to a transaction whereby the Denied Person acquires or attempts to acquire such ownership, possession or control;

C. Take any action to acquire from or to facilitate the acquisition or attempted acquisition from the Denied Person of any item subject to the Regulations that has been exported from the United States;

D. Obtain from the Denied Person in the United States any item subject to the Regulations with knowledge or reason to know that the item will be, or is intended to be, exported from the United States; or

E. Engage in any transaction to service any item subject to the Regulations that has been or will be exported from the United States and which is owned, possessed or controlled by the Denied Person, or service any item, of whatever origin, that is owned, possessed or controlled by the Denied Person if such service involves the use of any item subject to the Regulations that has been or will be exported from the United States. For purposes of this paragraph, servicing means installation, maintenance, repair, modification or testing.

III. After notice and opportunity for comment as provided in Section 766.23 of the Regulations, any other person, firm, corporation, or business organization related to Amirnazmi by affiliation, ownership, control or position of responsibility in the conduct of trade or related services may also be subject to the provisions of this Order if necessary to prevent evasion of the Order.

IV. This Order does not prohibit any export, reexport, or other transaction subject to the Regulations where the only items involved that are subject to the Regulations are the foreign-produced direct product of U.S.-origin technology.

V. This Order is effective immediately and shall remain in effect until January 11, 2020.

VI. In accordance with Part 756 of the Regulations, Amirnazmi may file an appeal of this Order with the Under Secretary of Commerce for Industry and Security. The appeal must be filed within 45 days from the date of this Order and must comply with the provisions of Part 756 of the Regulations.

VII. A copy of this Order shall be delivered to the Amirnazmi. This Order shall be published in the Federal Register.

Issued this 7th day February, 2011.
Bernard Kritzer,
Director, Office of Exporter Services.

[FR Doc. 2011-4820 Filed 3-2-11; 8:45 am]

BILLING CODE 3510-DT-P